DEPARTMENT OF COMMERCE

Foreign-Trade Zones Board

[B-54-2013]

Foreign-Trade Zone (FTZ) 39—Dallas-Fort Worth, Texas; Notification of Proposed Production Activity; Lasko Products, Inc. (Household Electric Fans); Fort Worth, Texas

Lasko Products, Inc. (Lasko), an operator of FTZ 39, submitted a notification of proposed production activity for its facilities located in Fort Worth, Texas. The notification conforming to the requirements of the regulations of the FTZ Board (15 CFR 400.22) was received on May 21, 2013.

The Lasko facilities are located at 1700 Meacham Boulevard, 4925-4933 Pylon Street, and 4600 Blue Mound Road, Fort Worth (Tarrant County), Texas. A separate application for “usage-driven” site designation at the Lasko facilities is planned and will be processed under Section 400.24 of the FTZ Board's regulations. The facilities are used for the production of household electric fans. Pursuant to 15 CFR 400.14(b), FTZ activity would be limited to the specific foreign-status materials and components and specific finished products described in the submitted notification (as described below) and subsequently authorized by the FTZ Board.

Production under FTZ procedures could exempt Lasko from customs duty payments on the foreign status materials and components used in export production. On its domestic sales, Lasko would be able to choose the duty rates during customs entry procedures that apply to household electric fans (2.3, 4.7%) for the foreign status inputs noted below. Customs duties also could possibly be deferred or reduced on foreign status production equipment.

The components and materials sourced from abroad include: plastic labels; parts of fans (housings, grills, pedestal assemblies, blades); electric motors; electronic transmitters; electrical cords and switches; fasteners; metal name plates; paper manuals; and, paperboard cartons (duty rate ranges from free to 6.2%).

Public comment is invited from interested parties. Submissions shall be addressed to the FTZ Board's Executive Secretary at the address below. The closing period for their receipt is July 15, 2013.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: May 30, 2013.
Andrew McGilvray,
Executive Secretary.

[FR Doc. 2013-13319 Filed 6-4-13; 8:45 am]

BILLING CODE P